DEPARTMENT OF THE INTERIOR

Bureau of Land Management

[CACA 7994 and CACA 7995]

Public Land Order No. 7597; Partial Revocation of Secretarial Orders Dated February 9, 1927, and May 6, 1927; California

AGENCY: Bureau of Land Management.

ACTION: Public Land Order.

SUMMARY: This order partially revokes two Secretarial Orders insofar as they affect 67.72 acres of National Forest System lands withdrawn for Power Site Classification Nos. 168 and 178. This order makes the lands available for exchange.

EFFECTIVE DATE: April 2, 2004.

FOR FURTHER INFORMATION CONTACT: Duane Marti, BLM California State Office, 2800 Cottage Way, Sacramento, California 95825, 916-979-2858.

SUPPLEMENTARY INFORMATION: The land described in Paragraph 1 was not surveyed until after Power Site Classification No. 168 was established. Power Site Interpretation No. 111 modified the description in the original order to be in conformance with the survey.

Order

By virtue of the authority vested in the Secretary of the Interior by Section 204 of the Federal Land Policy and Management Act of 1976, 43 U.S.C. 1714 (2000), it is ordered as follows:

1. The Secretarial Order dated February 9, 1927, as modified by Power Site Interpretation No. 111, which established Power Site Classification No. 168, is hereby revoked insofar as it affects the following described land:

Eldorado National Forest

Mount Diablo Meridian

T. 14 N., R. 13 E.,

Sec. 22, lots 1 to 5, inclusive.

The area described contains 27.72 acres in Placer County.

2. The Secretarial Order dated May 6, 1927, which established Power Site Classification No. 178, is hereby revoked insofar as it affects the following described land:

Eldorado National Forest

Mount Diablo Meridian

T. 13 N., R. 14 E.,

Sec. 29, NE¼NE¼.

The area described contains 40 acres in El Dorado County.

3. The above described lands are hereby made available for exchange under the Act of March 20, 1922, as amended, 16 U.S.C. 485 (2000) and Section 206 of the Federal Land Policy and Management Act of 1976, 43 U.S.C. 1716 (2000).

Dated: February 13, 2004.
Rebecca W. Watson,
Assistant Secretary, Land and Minerals Management.

[FR Doc. 04-4757 Filed 3-2-04; 8:45 am]

BILLING CODE 3410-11-P